DEPARTMENT OF COMMERCE

Foreign-Trade Zones Board

[B-60-2016]

Foreign-Trade Zone (FTZ) 7—Mayaguez, Puerto Rico; Notification of Proposed Production Activity; MSD International GMBH (Puerto Rico Branch) LLC; Subzone 7G (Pharmaceuticals) Las Piedras, Puerto Rico

MSD International GMBH (Puerto Rico Branch) LLC (MSD), operator of Subzone 7G, submitted a notification of proposed production activity to the FTZ Board for its facility within Subzone 7G, in Las Piedras, Puerto Rico. The notification conforming to the requirements of the regulations of the FTZ Board (15 CFR 400.22) was received on August 29, 2016.

MSD currently has authority to produce certain pharmaceutical products and their intermediates within Subzone 7G. The current request would add a finished pharmaceutical product and foreign status materials/components to the scope of authority. Pursuant to 15 CFR 400.14(b), additional FTZ authority would be limited to the specific foreign-status materials/components and specific finished product described in the submitted notification (as described below) and subsequently authorized by the FTZ Board.

Production under FTZ procedures could exempt MSD from customs duty payments on the foreign-status materials/components used in export production. On its domestic sales, MSD would be able to choose the duty rate during customs entry procedures that applies to finished ertugliflozin/metformin pharmaceutical tablets for the treatment of type-2 diabetes (duty free) for the foreign-status materials/components noted below and in the existing scope of authority. Customs duties also could possibly be deferred or reduced on foreign-status production equipment.

The materials/components sourced from abroad include: Metformin hydrochloride and jet-milled ertugliflozin active ingredients (duty rates 3.7% and 6.5%).

Public comment is invited from interested parties. Submissions shall be addressed to the FTZ Board's Executive Secretary at the address below. The closing period for their receipt is October 31, 2016.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Diane Finver at Diane.Finver@trade.gov or (202) 482-1367.

Dated: September 13, 2016.
Andrew McGilvray,
Executive Secretary.

[FR Doc. 2016-22480 Filed 9-16-16; 8:45 am]

BILLING CODE 3510-DS-P